EQUAL EMPLOYMENT OPPORTUNITY COMMISSION

Sunshine Act Notice

TIME AND DATE: Wednesday, April 28, 2021, 10:30 a.m. Eastern Time.

PLACE: Because of the COVID-19 pandemic, the meeting will be held as a videoconference, with a separate audio-only dial-in. The public may observe the videoconference or connect to the audio-only dial-in by following the instructions that will be posted on www.eeoc.gov 24 hours before the meeting. Closed captioning and ASL services will be available.

MATTER TO BE CONSIDERED: The following item will be considered at the meeting:

Civil Rights Implications of the COVID-19 Pandemic

Note: In accordance with the Sunshine Act, the public will be able to observe the Commission's deliberations and voting. (In addition to publishing notices on EEOC Commission meetings in the Federal Register, the Commission also provides information about Commission meetings on its website, www.eeoc.gov, and provides a recorded announcement a week in advance on future Commission meetings.)

Please telephone (202) 663-7100 (voice) or (202) 921-2750, or email commissionmeetingcomments@eeoc.gov at any time for information on this meeting.

CONTACT PERSON FOR MORE INFORMATION: Rachel V. See, Acting Executive Officer, (202) 921-2545.

Dated: April 20, 2021.
Rachel V. See,
Acting Executive Officer, Executive Secretariat.

[FR Doc. 2021-08490 Filed 4-20-21; 4:15 pm]

BILLING CODE 6570-01-P